DEPARTMENT OF THE INTERIOR

Bureau of Land Management

[NV-030-08-1232-EA-NV15; 8-08807; TAS: 14X5413]

Temporary Closure of Public Lands During Competitive Special Recreation Permitted Events on Public Lands Managed by the Carson City Field Office, Nevada

AGENCY: Bureau of Land Management, Interior.

ACTION: Notice.

SUMMARY: The Bureau of Land Management (BLM) will effect temporary closure of certain public lands in Lyon, Storey, Churchill, Carson, Douglas, Mineral, Washoe, and Nye counties at various dates and locations to provide for public and participant safety and to protect adjacent natural and cultural resources during the conduct of permitted special recreation events.

EFFECTIVE DATES: April through November 2008. Events may be canceled or rescheduled with short notice due to weather, sudden change in resource conditions, emergency actions, or at the discretion of the authorizing officer.

FOR FURTHER INFORMATION CONTACT: Arthur Callan, (775) 885-6000.

SUPPLEMENTARY INFORMATION: These closures (Closure Number: NV-030-08-001) are authorized under the provisions of the Federal Land Policy and Management Act of 1976, 43 U.S.C. 1701 et seq. This notice applies to public lands directly affected by and adjacent to competitive special events for which a BLM Special Recreation Permit (SRP) has been authorized. Examples of events include: motorized off-highway vehicle (OHV) races, mountain bike races; horse endurance rides and field dog trials. Race and ride events are conducted along dirt roads, trails, and washes approved for such use; field dog trials occur over specified acreages. One or more special events occur monthly from April through November. Unless otherwise posted, race closure periods are from 5 a.m. race day until race finish or until the event has cleared between affected check point locations. Closures may occupy 2 to 24 hour periods. The general public will be advised of event and closure specifics via on-the-ground signage, public letters, e-mail, or local newspaper notices. The public may call to confirm or discuss closures at anytime prior to an announced event date. Locations commonly used for permitted events include, but are not limited to:

Mount Diablo Meridian, Nevada

1. Lemmon Valley MX Area—Washoe County

T. 21 N., R.19 E., Sec. 8.

2. Hungry Valley Recreation Area—Washoe County

T. 20-24 N., R.18-21 E.

3. Pine Nut Mountains—Carson, Douglas and Lyon Counties

T. 11-16 N., R. 20-24 E.

4. Virginia City/Jumbo Areas—Storey and Washoe Counties

T.16-17 N., R. 20-21 E.

5. Yerington/Weeks Areas—Lyon County

T.12-16 N., R. 23-27 E.

6. Fallon Area (Including Sand Mountain)—Churchill County

T.14-18 N., R. 27-32 E.

7. Hawthorne Area—Mineral County

T. 5-14 N., R. 31½-36 E.

8. Vegas to Reno OHV Race Route: Nye, Mineral, Churchill, and Lyon Counties in the Vicinity of Highway 95 From South to North

Marking and effect of closure: BLM lands to be temporarily closed to public use include the length, width and certain lands adjacent to those roads, trails or areas identified as the race route or event area by colorful flagging, chalk arrows in the dirt and directional arrows attached to wooden stakes. The authorized applicants or their representatives are authorized and required to post warning signs, control access to, and clearly mark the event routes and areas, common access roads and road crossings during closure periods. Spectator and support vehicles may be driven on open roads only. Spectators may observe motorized race events from specified locations (such as designated spectator, pit and check point areas) or as directed by event and agency officials.

Other permitted and recreational uses generally affected by a temporary closure include: road and trail uses for livestock management and mineral exploration, utility maintenance, casual public land exploration, camping, hunting, or shooting of any kind of weapon including paint ball.

Exceptions: Closure restrictions do not apply to event officials, medical/rescue, law enforcement, and agency personnel monitoring the events.

Penalties: In accordance with the applicable provisions of 43 U.S.C. 1733 any person failing to comply with the closure orders may be subject to imprisonment for not more than 12 months, or a fine in accordance with the applicable provisions of 18 U.S.C. 3571 or both.

Authority: 43 CFR 8364.1 and 43 CFR, part 2930.

Dated: April 14, 2008.
Donald T. Hicks,
Manager, Carson City Field Office.

[FR Doc. E8-9674 Filed 5-1-08; 8:45 am]

BILLING CODE 4310-HC-P